GENERAL SERVICES ADMINISTRATION

[Notice CIB-2011-2; Docket-2011-0004; Sequence 4]

Privacy Act of 1974; Notice of New System of Records

AGENCY: General Services Administration.

ACTION: New notice.

SUMMARY: GSA proposes to establish a new system of records subject to the Privacy Act of 1974, as amended, 5 U.S.C. 552a.

DATES: Effective September 9, 2011.

FOR FURTHER INFORMATION CONTACT: Call or e-mail the GSA Privacy Act Officer: telephone 202-208-1317; e-mail gsa.privacyact@gsa.gov.

ADDRESSES: GSA Privacy Act Officer (CIB), General Services Administration, 1275 First Street, NE., Washington, DC 20417.

SUPPLEMENTARY INFORMATION: GSA proposes to establish a new system of records subject to the Privacy Act of 1974, 5 U.S.C. 552a. The new system will allow GSA Users to utilize two factor authentication to access Google Apps for Government implementation used by the GSA.

Dated: July 26, 2011.
Cheryl M. Paige,
Director, Office of Information Management.

GSA/CIO-2

SYSTEM NAME:

Enterprise Server Services (ESS)

SYSTEM LOCATION:

Enterprise Server Services is a singular component system managed by the Systems Solutions Division, a division of Office of the Chief Information Officer. The ESS system is housed in secure datacenters hosted by GSA in each of its regional office buildings and in various additional secure datacenters throughout the National Capital Region, including Crystal City, Willow Wood, GSA Central Office Building, and GSA's temporary facility at Constitution Square. In addition, some employees and contractors may download and store information from this system. Those copies are located within the employee and contractor's office.

CATEGORIES OF INDIVIDUALS COVERED BY THE SYSTEM:

Only one category of individual is covered by this system, collectively referred to as “GSA Users”, which are individuals who require routine access to agency information technology systems, including federal employees, contractors, child care workers and other temporary workers with similar access requirements. The system does apply to or contain occasional visitors or short-term guests.

CATEGORIES OF RECORDS IN THE SYSTEM:

This system contains information needed to utilize two factor authentication to access Google Apps for Government. Records may include, but not necessarily be limited to:

• Employee/contractor/other worker's full name

• Organization/office of assignment

• Company/agency name

• Work Address

• GSA Assigned work telephone number

• Personal home or mobile phone

• Personal e-mail addresses

AUTHORITY FOR MAINTENANCE OF THE SYSTEM:

5 U.S.C. 301, 40 U.S.C. 121, 40 U.S.C. 11315, 44 U.S.C. 3506, E.O. 9397, as amended, and Homeland Security Presidential Directive 12 (HSPD-12).

PURPOSES:

To allow GSA to utilize two factor authentication to access Google Apps for Government implementation used by the GSA.

ROUTINE USES OF RECORDS MAINTAINED IN THE SYSTEM INCLUDING CATEGORIES OF USERS AND THE PURPOSES OF SUCH USES:

All GSA Users utilize two factor authentication to access Google Apps for Government.

a. To a Member of Congress or to a Congressional staff member in response to an inquiry of the Congressional office, made at the written request of the constituent about whom the record is maintained.

b. To the National Archives and Records Administration (NARA) or to the General Services Administration for records management purposes.

c. To agency contractors, grantees, consultants or volunteers who have been engaged to assist the agency in the performance of a contract service, grant, cooperative agreement, or other activity related to this system of records and who needs to have access to records in order to perform their activity. Recipients shall be required to comply with the requirements of the Privacy Act of 1974, as amended, 5 U.S.C. 552a, the Federal Information Security Management Act (Pub. L. 107-296), and associated OMB policies, standards and guidance from the National Institute of Standards of Technology, and the General Services Administration.

d. To a Federal agency, State, local, foreign, or tribal or other public authority, on request, in connection with the hiring or retention of an employee, the issuance or retention of a security clearance, the letting of a contract, or the issuance or retention of a license, grant, or other benefit, to the extent that the information is relevant and necessary to the requesting agency's decision.

e. To the Office of Management and Budget (OMB) when necessary to the review of private relief legislation pursuant to OMB circular No. A-19.

f. To designated agency personnel for controlled access to specific records for the purpose of performing authorized audit or authorized oversight and administrative credentials based on access and authorization rules specific audit and administrative functions.

g. To the Office of Personnel Management (OPM), the Office of Management and Budget (OMB), the Government Accountability Office (GAO), or other Federal agencies when the information is required for program evaluation purposes.

h. To appropriate agencies, entities, and persons when (1) the Agency suspects or has confirmed that the security or confidentiality of information in the system of records has been compromised; (2) the Agency has determined that as a result of the suspected or confirmed compromise there is a risk of harm to economic or property interests, identity theft or fraud, or harm to the security or integrity of this system or other systems or programs (whether maintained by GSA or another agency or entity) that rely upon the compromised information; (3) the disclosure made to such agencies, entities, and persons is reasonably necessary to assist in connection with GSA's efforts to respond to the suspected or confirmed compromise and prevent, minimize, or remedy such harm.

i. In any criminal, civil or administrative legal proceeding, where pertinent, to which GSA, a GSA employee, or the United States or other entity of the United States Government is a party before a court or administrative body.

j. To an appeal, grievance, hearing, or complaints examiner; an equal employment opportunity investigator, arbitrator, or mediator; and/or an exclusive representative or other person authorized to investigate or settle a grievance, complaint, or appeal filed by an individual who is the subject of the record.

POLICIES AND PRACTICES FOR STORING, RETRIEVING, ACCESSING, RETAINING AND DISPOSING OF RECORDS IN THE SYTEM:

STORAGE:

Computer records are stored on a secure server and accessed over the Web via encryption software. Paper records, when created, are kept in file folders and cabinets in secure rooms. When individuals download information, it is kept on password secured computer and it is their responsibility to protect the data, including compliance with HCO 2180.1, GSA Rules of Behavior for Handling Personally Identifiable Information (PII).

RETRIEVABILITY:

Records are retrievable by a combination of first name and last name. Group records are retrieved by organizational code.

SAFEGUARDS:

Access is limited to authorized individuals with passwords or keys. Computer records are protected by a password system that is compliant with National Institute of Standards and Technology standards. Paper records are stored in locked metal containers or in secured rooms when not in use. Information is released to authorized officials based on their need to know.

RETENTION AND DISPOSAL:

Records are retained and disposed of according to GSA records maintenance and disposition schedules, GSA Records Maintenance and Disposition System (CIO P 1820.1), and requirements of the National Archives and Records Administration.

SYSTEM MANAGER AND ADDRESS:

Program Manager, Center for Applied Solutions, General Services Administration, 1275 First Street, N.E., Washington, DC 20417.

NOTIFICATION PROCEDURE:

An individual can determine if this system contains a record pertaining to him/her by sending a request in writing, signed, to the System Manager at the above address. When requesting notification of or access to records covered by this notice, an individual should provide his/her full name, date of birth, region/office, and work location. An individual requesting notification of records in person must provide identity documents sufficient to satisfy the custodian of the records that the requester is entitled to access.

RECORD ACCESS PROCEDURES:

Individuals wishing to access their own records should contact the system manager at the address above.

CONTESTING RECORD PROCEDURES:

Rules for contesting the content of a record and appealing a decision are contained in 41 CFR 105-64.

RECORD SOURCE CATEGORIES:

The sources for information in the system are the individuals about whom the records are maintained, the supervisors of those individuals, existing GSA systems, sponsoring agency, former sponsoring agency, other Federal agencies, contract employer, former employer, and the U.S. Office of Personnel Management (OPM).

[FR Doc. 2011-20271 Filed 8-9-11; 8:45 am]

BILLING CODE 6820-34-P